DEPARTMENT OF TRANSPORTATION

Federal Aviation Administration

14 CFR Part 71

[Docket No. FAA-2020-0701; Airspace Docket No. 20-ASO-19]

RIN 2120-AA66

Establishment of Class D Airspace and Amendment of Class E Airspace; Nashville, TN; Correction

AGENCY: Federal Aviation Administration (FAA), DOT.

ACTION: Final rule; correction.

SUMMARY: The Federal Aviation Administration (FAA) is correcting a final rule that appeared in the Federal Register on December 1, 2020, establishing Class D and E airspace for John C. Tune Airport, Nashville, TN. This action corrects the legal description of the Class D airspace by amending the ceiling to 2,500 feet, adding the Class E extensions to the Class D description, and adjusting the extension bearings. In addition, this action removes the Class E airspace designated as an extension to a Class D or Class E surface area, established in the final rule.

DATES: Effective 0901 UTC, August 12, 2021. The Director of the Federal Register approves this incorporation by reference action under 1 CFR part 51, subject to the annual revision of FAA Order 7400.11 and publication of conforming amendments.

FOR FURTHER INFORMATION, CONTACT: John Fornito, Operations Support Group, Eastern Service Center, Federal Aviation Administration, 1701 Columbia Avenue, College Park, GA 30337; telephone (404) 305-6364.

SUPPLEMENTARY INFORMATION:

History

The FAA published a final rule in the Federal Register (85 FR 76958; December 1, 2020) for Docket FAA-2020-0701 establishing Class D airspace and Class E airspace designated as an extension to a Class D or Class E surface area, and amending Class E airspace extending upward from 700 feet above the surface. Subsequent to publication, the FAA identified errors in how the Class D airspace is described, as well as determining the Class E surface extensions needed to be added to the Class D description. This action corrects these errors.

Class D and Class E airspace designations are published in Paragraph 5000, 6004 and 6005, respectively, of FAA Order 7400.11E, dated July 21, 2020, and effective September 15, 2020, which is incorporated by reference in 14 CFR 71.1. The Class E airspace designations listed in this document will be published subsequently in the Order.

Correction to Final Rule

Accordingly, pursuant to the authority delegated to me, Amendment of the Class D Airspace and Class E Airspace; Nashville, TN, published in the Federal Register of December 1, 2020 (85 FR 76958), FR Doc. 2020-26439, is corrected as follows:

§ 71.1 [Corrected]

1. On page 76958, in the second column, beginning on line 49, the subject heading is corrected to read as follows: Establishment of Class D and Amendment of Class E Airspace; Nashville, TN.

§ 71.1 [Corrected]

2. On page 76959, in the first column, beginning on line 53, the description of the airspace is corrected to read as follows: establishes Class D airspace for John C. Tune Airport, Nashville, TN, as a new air traffic control tower shall service the airport.

§ 71.1 [Corrected]

3. On page 76959, in the third column, beginning on line 22, the description of the Class D airspace is corrected to read as follows:

That airspace upward from the surface to and including 2,500 feet MSL within a 4.1-mile radius of John C. Tune Airport, and within 1.2-miles each side of the 195° bearing from the airport, extending from the 4.1-mile radius to 6.1-miles south of the airport, and within 1.2-miles each side of the 015° bearing from the airport, extending from the 4.1-mile radius to 6.1-miles north of the airport. This Class D airspace area is effective during the specific dates and times established in advance by a Notice to Airmen. The effective dates and times will thereafter be continuously published in the Chart Supplement.

§ 71.1 [Corrected]

4. On page 76959, in the third column, remove lines 31 through 45, without replacement.

Issued in College Park, Georgia, on June 28, 2021.
Matthew N. Cathcart,
Acting Manager, Operations Support Group, Eastern Service Center, Air Traffic Organization.

[FR Doc. 2021-14164 Filed 7-1-21; 8:45 am]

BILLING CODE 4910-13-P